DEPARTMENT OF COMMERCE

National Oceanic and Atmospheric Administration

Forum—Trends in Extreme Winds, Waves, and Extratropical Storms Along the Coasts

AGENCY: National Environmental Satellite, Data, and Information Service (NESDIS), National Oceanic and Atmospheric Administration (NOAA), Department of Commerce (DOC).

ACTION: Notice of open public forum.

SUMMARY: This notice sets forth the schedule and topics of an upcoming forum hosted by the NOAA National Climatic Data Center in Asheville, North Carolina on January 11-13, 2012. Invited participants will discuss topics as outlined below.

Members of the public are invited to attend the forum and are required to RSVP to Brooke.Stewart@noaa.gov by 5 p.m. EST, Wednesday, December 28, 2011 if they wish to attend. The forum is to be held in a federal facility; building security restrictions preclude attendance by members of the public who do not RSVP by the deadline. Space is also limited and public attendees will be admitted based on the order in which RSVPs are received.

Members of the public will be invited to offer their comments during a 30-minute period to be held from 9:30 to 10 a.m. on Wednesday, January 11, 2012. Each individual or group making a verbal presentation will be limited to a total time of five minutes. Please indicate your intention to participate in the public comment period when submitting your RSVP. Time for public comments will be allotted based on the order in which RSVPs are received. Written comments may be submitted via email or in hardcopy and must be received by December 28, 2011. For information on how to submit written comments, please see addresses below.

Special Accommodations: These meetings are physically accessible to people with disabilities. Requests for sign language interpretation or other auxiliary aids should be directed to Brooke Stewart (828) 257-3020, Brooke.Stewart@noaa.gov) by December 28, 2011.

DATES:

Forum Date and Time: The forum will be held on January 11-13, 2012 at the following times: January 11, 2012 from 8:15 a.m. to 4:45 p.m. EST; January 12, 2012 from 8:15 a.m. to 5:30 p.m. EST; and January 13, 2012 from 8:15 a.m. to 2 p.m. EST.

RSVP Deadline: Any member of the public wishing to attend the forum must RSVP no later than 5 p.m. EST, Wednesday, December 28, 2011.

Deadline for Written Comments: Written comments must be received by 5 p.m. EST, Wednesday, December 28, 2011.

ADDRESSES: The forum will be held at the Veach-Baley Federal Complex, located at 151 Patton Avenue, Asheville, North Carolina 28801.

Written comments may be submitted to Brooke.Stewart@noaa.gov or in hard copy to Brooke Stewart, 151 Patton Avenue, Room 563, Asheville, North Carolina 28801. For changes in the schedule, agenda, and updated information, please check the forum Web site at https://sites.google.com/a/noaa.gov/extreme-winds-waves-extratropical-storms/home.

FOR FURTHER INFORMATION CONTACT: Brooke Stewart, National Climatic Data Center, 151 Patton Avenue, Room 563, Asheville, North Carolina 28801. (Phone: (828) 257-3020, Email: brooke.stewart@noaa.gov.)

SUPPLEMENTARY INFORMATION: This forum will provide an update to the climate science surrounding extreme events. The intent is to make key input available to the National Climate Assessment (NCA) for consideration. Further information regarding the NCA is available at http://www.globalchange.gov/what-we-do/assessment. NOAA is sponsoring this forum in support of the National Climate Assessment process.

As materials for this forum become available, they may be found at https://sites.google.com/a/noaa.gov/extreme-winds-waves-extratropical-storms/home.

Topics To Be Addressed

This forum will address observed changes and their causes with regard to specific types of extreme weather and climate events, including extreme winds, waves, and extratropical storms along the coasts.

Participants Will Consider

• Observed changes and degree of confidence in those changes for extreme winds, waves, and extratropical storms along the coasts.

• Current state of mechanistic understanding of the above-mentioned extreme events.

• Potential causes of observed changes in extreme events.

This forum will feature invited speakers and discussions. The forum is designed to produce a detailed draft outline of an article for submission to a peer-reviewed scientific journal.

Mary E. Kicza,
Assistant Administrator for Satellite and Information Services.

[FR Doc. 2011-30889 Filed 11-30-11; 8:45 am]

BILLING CODE P